NATIONAL FOUNDATION ON THE ARTS AND THE HUMANITIES

National Endowment for the Arts

National Council on the Arts 209th Meeting

AGENCY: National Endowment for the Arts, National Foundation on the Arts and Humanities.

ACTION: Notice of meeting.

SUMMARY: Pursuant to the Federal Advisory Committee Act, as amended, notice is hereby given that a meeting of the National Council on the Arts will be held open to the public for in-person attendance as well as by videoconference.

DATES: See the SUPPLEMENTARY INFORMATION section for meeting time and date. The meeting is Eastern time and the ending time is approximate.

ADDRESSES: The National Endowment for the Arts, Constitution Center, 400 Seventh Street SW, Washington, DC 20560. This meeting will be held in-person and by videoconference. See the SUPPLEMENTARY INFORMATION section for the meeting location. Please monitor arts.gov for the most up-to-date information.

FOR FURTHER INFORMATION CONTACT: Liz Auclair, Office of Public Affairs, National Endowment for the Arts, Washington, DC 20506, at 202/682-5744.

SUPPLEMENTARY INFORMATION: If you need special accommodations due to a disability, please contact Beth Bienvenu, Office of Accessibility, National Endowment for the Arts, Constitution Center, 400 7th St. SW, Washington, DC 20506, 202/682-5733, Voice/T.T.Y. 202/682-5496, at least seven (7) days prior to the meeting.

The upcoming meeting is:

National Council on the Arts 209th Meeting

This portion of the meeting will be held open to the public for in-person attendance and by videoconference at the National Museum of African American History and Culture, Oprah Winfrey Theater, 1400 Constitution Ave. NW, Washington, DC 20560.

Date and time: March 31, 2022; 9:30 a.m. to 11:00 a.m.

There will be opening remarks and voting on recommendations for grant funding and rejection, followed by updates from NEA Chair Maria Rosario Jackson.

To view the webcasting of this open session of the meeting, go to: https://www.arts.gov/.

Dated: March 9, 2022.
David Travis,
Specialist, Office of Guidelines and Panel Operations.

[FR Doc. 2023-05197 Filed 3-13-23; 8:45 am]

BILLING CODE 7537-01-P